DEPARTMENT OF COMMERCE

National Oceanic and Atmospheric Administration

50 CFR Part 648

[Docket No. 221026-0227; RTID 0648-XC411]

Fisheries of the Northeastern United States; Mid-Atlantic Blueline Tilefish Fishery; Final 2022 and 2023 and Projected 2024 Specifications

AGENCY: National Marine Fisheries Service (NMFS), National Oceanic and Atmospheric Administration (NOAA), Commerce.

ACTION: Final rule.

SUMMARY: This final rule implements specifications for the 2022 and 2023 blueline tilefish fishery north of the North Carolina/Virginia border and projected specifications for 2024. This action is necessary to establish allowable harvest levels and other management measures to prevent overfishing while allowing optimum yield, consistent with the Magnuson-Stevens Fishery Conservation and Management Act and the Tilefish Fishery Management Plan. It is also intended to inform the public of the final specifications for the 2022 fishing year (January 1, 2022 through December 31, 2022) and the 2023 fishing year (January 1, 2023 through December 31, 2023), and projected specifications for 2024.

DATES: This rule is effective December 5, 2022.

ADDRESSES: Copies of the Supplemental Information Report (SIR) prepared for this action, and other supporting documents for these proposed specifications, are available from Dr. Christopher M. Moore, Executive Director, Mid-Atlantic Fishery Management Council, 800 North State Street, Suite 201, Dover, DE 19901. These documents are also accessible via the internet at https://www.mafmc.org.

FOR FURTHER INFORMATION CONTACT: Laura Hansen, Fishery Management Specialist, (978) 281-9225.

SUPPLEMENTARY INFORMATION:

Background

The Mid-Atlantic Fishery Management Council manages the blueline tilefish fishery north of the North Carolina/Virginia border under the Tilefish Fishery Management Plan (FMP), which outlines the Council's process for establishing annual specifications. The South Atlantic Fishery Management Council manages Blueline tilefish south of the North Carolina/Virginia border under the Snapper Grouper FMP.

The Tilefish FMP requires the Mid-Atlantic Council to recommend acceptable biological catch (ABC), annual catch limit (ACL), annual catch target (ACT), total allowable landings (TAL), and other management measures for the commercial and recreational sectors of the fishery, for up to three years at a time. The Council's Scientific and Statistical Committee (SSC) provides an ABC recommendation to the Council to derive these catch limits. The Council makes recommendations to NMFS that cannot exceed the recommendation of its SSC. The Council's recommendations must include supporting documentation concerning the environmental, economic, and social impacts of the recommendations. We are responsible for reviewing these recommendations to ensure that they achieve the FMP objectives and are consistent with all applicable laws. Following review, NMFS publishes the final specifications in the Federal Register.

In 2017, a benchmark assessment of the blueline tilefish population along the entire East Coast was conducted through the Southeast Data, Assessment, and Review process (SEDAR 50). Due to data limitations, the coast-wide population was modeled separately north and south of Cape Hatteras, NC. To assist in developing a recommendation for acceptable biological catch (ABC), the Mid- and South Atlantic Councils' SSCs, as well as staff from the Northeast and Southeast Fisheries Science Centers, formed a joint subcommittee to examine available information for the region north of Cape Hatteras, and to develop separate catch advice for each Council's jurisdiction.

At its March 2018 meeting, the Mid-Atlantic SSC reviewed the output from the SEDAR 50 benchmark stock assessment as well as additional work using the Data-Limited Methods Toolkit (DLMTool) and derived an ABC recommendation using the Mid-Atlantic Council's risk policy. The resulting ABC was 179,500 lb (81.4 mt) for 2019-2021 for the region north of Cape Hatteras. The SSC then followed the recommendation of the Joint Mid- and South Atlantic Blueline Tilefish Subcommittee to distribute 56 percent of that ABC to the Mid-Atlantic Council (north of the VA/NC border) and 44 percent to the South Atlantic Council. This percentage breakdown is based on the catch distribution from the 2017 Pilot Blueline Tilefish Longline Survey.

At its March 2022 meeting, the Mid-Atlantic SSC used the 2018 approach to recommend a status quo ABC of 100,520 lb (45.6 mt) for the 2022-2024 fishing years for the region north of Cape Hatteras. The SSC made this recommendation under consideration of recent fishery performance, lack of an updated assessment, the need to synchronize the Mid-Atlantic specifications cycle with a SEDAR assessment scheduled for 2024/2025, and the high degree of uncertainty within the recreational sector. Final 2022 and 2023 and projected 2024 specifications are shown below in Table 1. We will reaffirm the 2024 final specifications via publication in the Federal Register.

Table 1—Final 2022 and 2023 and Projected 2024 Blueline Tilefish Specifications
| Final 2022 | Final 2023 | Projected 2024
ABC—North of NC/VA line | 100,520 lb (45.6 mt) | 100,520 lb (45.6 mt) | 100,520 lb (45.6 mt).
Recreational ACL/ACT | 73,380 (33.3 mt) | 73,380 (33.3 mt) | 73,380 (33.3 mt).
Commercial ACL/ACT | 27,140 lb (12.3 mt) | 27,140 lb (12.3 mt) | 27,140 lb (12.3 mt).
Recreational TAL | 71,912 lb (32.6 mt) | 71,912 lb (32.6 mt) | 71,912 lb (32.6 mt).
Commercial TAL | 26,869 lb (12.2 mt) | 26,869 lb (12.2 mt) | 26,869 lb (12.2 mt).

There were no other recommended changes to commercial or recreational management measures. The 2022 fishing year began on January 1, 2022, and the fishery is operating under a rollover provision. The 2023 fishing year will begin on January 1, 2023.

On August 2, 2022, we published a proposed rule (87 FR 47181) requesting comment on the 2022-2024 blueline tilefish specifications. The comment period was open through August 17, 2022. We did not receive any comments and no changes were made from the proposed action.

Classification

Pursuant to section 304(b)(1)(A) of the Magnuson Stevens Fishery Conservation and Management Act (Magnuson-Stevens Act), the NMFS Assistant Administrator (AA) has determined that this final rule is consistent with the Tilefish FMP, other provisions of the Magnuson-Stevens Act, and other applicable law.

The Council prepared a Supplemental Information Report (SIR) for this action and the AA concluded that that the modifications and their impacts make no substantial changes relevant to environmental concerns considered and analyzed in the original Environmental Assessment prepared for the 2019-2021 Blueline tilefish specifications. The management measures are status quo from the 2019-2021 specifications. A copy of the SIR is available from the Council (see ADDRESSES).

This final rule is not subject to Office of Management and Budget (OMB) review under Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This final rule contains no information collection requirements under the Paperwork Reduction Act of 1995.

Authority: 16 U.S.C. 1801 et seq.

Dated: October 31, 2022.
Samuel D. Rauch, III,
Deputy Assistant Administrator for Regulatory Programs, National Marine Fisheries Service.

[FR Doc. 2022-23956 Filed 11-2-22; 8:45 am]

BILLING CODE 3510-22-P